FEDERAL MEDIATION AND CONCILIATION SERVICE

Privacy Act of 1974; System of Records

AGENCY: Federal Mediation and Conciliation Service.

ACTION: Notice of a new system of records.

SUMMARY: To fulfill its conflict resolution and training mission, Federal Mediation and Conciliation Service (FMCS) uses Microsoft SharePoint, Microsoft Outlook, and a case records management system new to FMCS to enable mediators and managers to manage cases, manage reporting requirements, provide data for research and training, store recorded trainings and meetings, and collect information on Agency operations. The Agency's internal drives, SharePoint, email, Cloud-based services such as Zoom.gov and Microsoft Teams, and a case records management system are used to store electronic case tracking information, electronic case files (including mediation agreements), and recorded meetings and trainings, permitting the accurate and timely collection, retrieval, and retention of information maintained by offices of the Agency. Inter-Agency Agreements (IAA), agreements for reimbursable services, and requests for mediation and training are also stored in these locations. IAAs and agreements for reimbursable services allow FMCS to provide requested services, such as training and labor dispute resolution, to other federal agencies.

DATES: This notice will be effective without further notice on October 21, 2021 unless otherwise revised pursuant to comments received. New routine uses will be effective on October 21, 2021. Comments must be received on or before October 21, 2021.

ADDRESSES: You may send comments, identified by FMCS-0004 by any of the following methods:

• Mail: Office of General Counsel, 250 E Street SW, Washington, DC 20427.

• Email: ogc@fmcs.gov. Include FMCS-0004 on the subject line of the message.

• Fax: (202) 606-5444.

FOR FURTHER INFORMATION CONTACT: Anna Davis, Deputy General Counsel, at adavis@fmcs.gov or 202-606-3737.

SUPPLEMENTARY INFORMATION: This new system is needed for processing, storing, and maintaining FMCS case records, notices, and agreements.

SYSTEM NAME AND NUMBER:

FMCS-0004.

SECURITY CLASSIFICATION:

Unclassified.

SYSTEM LOCATION:

Federal Mediation and Conciliation Service, 250 E Street SW, Washington, DC 20427.

SYSTEM MANAGER(S):

Doug Jones, Director of Information Technology, email djones@fmcs.gov, or send mail to Federal Mediation and Conciliation Service, 250 E Street Southwest, Washington, DC 20427, Attn: Doug Jones.

AUTHORITY FOR MAINTENANCE OF THE SYSTEM:

Federal Mediation and Conciliation Service, 29 U.S.C. 172, et seq.; The Privacy Act, 5 U.S.C. 552a; The National Labor Relations Act, 29 U.S.C. 151, et seq.; Administrative Dispute Resolution Act, 5 U.S.C. 571-584; Negotiated Rulemaking Act of 1990, 5 U.S.C. 561-570.

PURPOSE(S) OF THE SYSTEM:

The case records management system is maintained for the purposes of processing records of notices, recording modification/termination of collective bargaining agreements, and/or existence of certain disputes sent by unions and employers under the National Labor Relations Act, as well as recording other activities for such purposes. SharePoint is maintained for the purposes of processing, monitoring, approving, modifying/canceling, signing, and closing agreements with other federal agencies. Microsoft Outlook is used to store party communications requesting and scheduling mediations and trainings. Cloud-based systems such as Zoom.gov and Microsoft Teams are used to record meetings and trainings. The Agency's internal drives are also maintained for the purpose of processing Freedom of Information requests.

CATEGORIES OF INDIVIDUALS COVERED BY THE SYSTEM:

Encompasses all individuals, and parties, receiving mediation, training, or any other external FMCS services.

CATEGORIES OF RECORDS IN THE SYSTEM:

These records consist of notices, agreements, case status information, and data regarding parties to mediations and trainings. This data includes name, title, business address, business email, cell phone number, business telephone and fax numbers, and IP address.

RECORD SOURCE CATEGORIES:

Parties to labor agreements/disputes, mediations, or those requesting training submit notices and requests. Agencies requesting services submit agreements, and FMCS personnel and official representatives receive case and agreement information.

ROUTINE USES OF RECORDS MAINTAINED IN THE SYSTEM, INCLUDING CATEGORIES OF USERS AND PURPOSES OF SUCH USES:

The files in this system are used to process, track, review, and evaluate requests for mediation, training, and other alternate dispute resolution services, and to respond to Freedom of Information Act requests. Data from this system may be used for training, presentation, and research purposes. The files from this system will also be used in the preparation of internal agency reports, the agency's budget requests, and reports to Congress.

(1) Requests for mediation or training completed by parties to include the Agency Form F-7, available on www.fmcs.gov. Contact information for parties requesting services. These documents are used to assign FMCS employees to cases, to respond to Freedom of Information Act requests, and to inform FMCS clients and parties of FMCS-sponsored events, trainings, conferences, and announcements.

(2) Processing documents sent to or from parties to a mediation: Agency confirmation letters sent to parties assigning mediators to cases or trainings, mediation agreements, FMCS terms and conditions, ethics waivers pertaining to specific cases, strike notices, picket notices, notice of intent to strike, and reports and invoices regarding mediations and training.

(3) Internal processing documents: Checklists of steps needed during the life of cases, correspondence with parties, and status updates for mediation cases. These documents are used to assess case progress, FMCS employee activity, and personnel needs. These documents produce summary descriptive statistics and analytical studies, and data for management information. These statistics and studies are used for related personnel management functions, other federal agency studies, congressional reports, budget reports, and workforce assessments.

(4) These documents or information contained therein may be sent to appropriate agencies, entities, and persons when (1) FMCS suspects or has confirmed that there has been a breach of the system of records, (2) FMCS has determined that as a result of the suspected or confirmed breach there is a risk of harm to individuals, FMCS (including its information systems, programs, and operations), the Federal Government, or national security; and (3) the disclosure made to such agencies, entities, and persons is reasonably necessary to assist in connection with FMCS's efforts to respond to the suspected or confirmed breach or to prevent, minimize, or remedy such harm.

(5) These documents or information contained therein may be sent to another Federal agency or Federal entity, when FMCS determines that information from this system of records is reasonably necessary to assist the recipient agency or entity in (1) responding to a suspected or confirmed breach or (2) preventing, minimizing, or remedying the risk of harm to individuals, the recipient agency or entity (including its information systems, programs, and operations), the Federal Government, or national security, resulting from a suspected or confirmed breach.

POLICIES AND PRACTICES FOR STORAGE OF RECORDS:

The case records management system will store records electronically using a commercial software application run on the Customer Relationship Management (CRM) platform, Microsoft Dynamics, which require a username and password. SharePoint is used to store the IAAs, which requires a username and password. Temporary paper files, notices received through mail, are destroyed once they are scanned into the agency's internal drives which also require a username and password. Communications regarding mediations and trainings are stored in accordance with the Agency's record retention schedule in Microsoft Outlook. Meetings and trainings that are recorded via Zoom.gov are stored in the Cloud on ZoomGov servers requiring a username and password. Meetings recorded in Microsoft Teams are stored on the FMCS employee's OneDrive which requires a username and password. Third-party recording of meetings or trainings on FMCS platforms is not permitted.

POLICIES AND PRACTICES FOR RETRIEVAL OF RECORDS:

Mediation case records are indexed by name of party, type of notice, case number, case type, date, and assigned mediator or geographic region. Mediation case records can also be searched by name, address, phone number, fax number, and email of a party on the case records management system. On SharePoint, case records are indexed by form name and number, agency and office that need services, type of service, assigned FMCS personnel, expiration date of service, service amount, and status.

POLICIES AND PRACTICES FOR RETENTION AND DISPOSAL OF RECORDS:

Records are stored in the system for seven years from the date the case is closed, plus the current year. Records older than this will be archived and sent to the National Archives and Records Administration (NARA). Records on the agency's internal drives are stored for seven years and then destroyed. On SharePoint, records are stored temporarily until business uses cease and then records are destroyed. All records are retained and disposed of in accordance with General Records Schedule 1.1 and 4.2, issued by NARA.

ADMINSTRATIVE, TECHNICAL, AND PHYSICAL SAFEGUARDS:

Case records and agreements are accessible to restricted FMCS personnel or contractors who require access. Access to these electronic records occurs through a web browser to the internet or on the agency's internal drives both requiring a username and password for login. FMCS buildings are guarded and monitored by security personnel, cameras, ID checks, and other physical security measures.

RECORD ACCESS PROCEDURES:

Members of the public seeking access to FMCS records would need to submit a Freedom of Information Act request via the Agency's public website portal, https://palfmcs.efoia-host.com/. FMCS personnel must login to the agency's network and database using agency credentials to access these records.

CONTESTING RECORDS PROCEDURES:

See 29 CFR 1410.6, Requests for correction or amendment of records, on how to contest the content of any records. Privacy Act requests to amend or correct records may be submitted to the Chief Privacy Officer at privacy@fmcs.gov or Chief Privacy Officer, FMCS 250 E Street SW, Washington, DC 20427. Also, see https://www.fmcs.gov/privacy-policy/.

NOTIFICATION PROCEDURES:

See 29 CFR 1410.3(a), Individual access requests.

EXEMPTIONS PROMULGATED FOR THE SYSTEM:

None.

HISTORY:

None.

Dated: September 16, 2021.
Sarah Cudahy.
General Counsel.

[FR Doc. 2021-20352 Filed 9-20-21; 8:45 am]

BILLING CODE 6732-01-P